DEPARTMENT OF THE INTERIOR

National Park Service

Benefits Sharing Environmental Assessment, National Park Service

AGENCY: U.S. Department of the Interior, National Park Service.

ACTION: Notice of intent to prepare an Environmental Assessment for the National Park Service (NPS) concerning the environmental impacts of implementing “benefits-sharing” agreements when information derived from research specimens collected from units of the National Park System results in commercial value.

SUMMARY: Pursuant to the provisions of the National Environmental Policy Act of 1969, the National Park Service is preparing an Environmental Assessment of potential environmental impacts of implementing “benefits-sharing” agreements for research projects that use research specimens lawfully collected from units of the National Park System. NPS authorizes the collection of research specimens from units of the National Park System for qualified scientific purposes under its regulations (36 CFR 1.6 and 2.5). Occasionally, such research also results in commercial applications. “Benefits-sharing” refers to the equitable and efficient exchange of valuable research results, and in some cases, economic resources, between researchers and their institutions or companies and the NPS. Through the Federal Technology Transfer Act of 1986 and other statutes. Congress has attempted to create incentives that optimize the social, environmental and economic benefits that can result from enhancing cooperative activities between Federal and private sector research organizations. In addition, the National Parks Omnibus Management Act of 1998 (Pub. L. 105-391) specifically authorizes the negotiation of “equitable, efficient benefits-sharing arrangements” between units of the National Park System and the research community.

NPS regulations provide that a park superintendent may issue a permit to a qualifying researcher when it determined that “public health and safety, environmental or scenic values, natural or cultural resources, scientific research, implementation of management responsibilities, proper allocation and use of facilities, or the avoidance of conflict among visitor use activities will be adversely impacted” (36 CFR 1.6(a)). Through a public process, this environmental assessment will examine potential environmental impacts of various methods of implementing the provisions of law that authorizes benefits-sharing agreements while ensuring the integrity of resources.

A newsletter and web site have been prepared with additional information concerning this assessment. Copies of that information may be obtained online at www.nature.nps.gov/benefitsharing or by contacting: NPS Benefits Sharing Team, P.O. Box 168, Yellowstone National Park, WY, 82190; telephone 307-344-2203. Comments may be submitted by any one of several methods. You may mail comments to: National Park Service. Benefit-Sharing Environmental Assessment, P.O. Box 168, Yellowstone National Park, WY 82190. You may also email comments to Benefits EA@nps.gov, or submit them online at www.nature.nps.gov/benefitssharing. NPS practice is to make comments, including the names and address of respondents, available for public review during regular business hours. Individual respondents may request that NPS withhold their address from the record, which will be honored to the extent allowable by law. There also may be circumstances in which NPS would withhold from the record a respondent's identity, to the extent allowable by law. If you wish the NPS to withhold your name and/or address, you must state this prominently at the beginning of your comments. NPS will make all submissions from organizations and businesses, and from individuals identifying themselves as representatives or officials or organizations or businesses, available for public inspection in their entirety.

DATES: Comments on the potential scope of the assessment, alternatives to be considered, impacts to be addressed, and any other relevant related issues should be submitted on or before August 9, 2001.

FOR FURTHER INFORMATION CONTACT: Sue Mills, National Park Service Benefits Sharing Team, P.O. Box 168, Yellowstone National Park, WY 82190; telephone 307-344-2203.

Dated: June 1, 2001.
Abigail Miller,
Acting Associate Director, Natural Resources Stewardship and Science.

[FR Doc. 01-15559 Filed 6-22-01; 8:45 am]

BILLING CODE 4310-70-M